DEPARTMENT OF COMMERCE

International Trade Administration

[A-469-814 and A-570-898]

Chlorinated Isocyanurates From Spain and the People's Republic of China: Final Results of the Expedited Sunset Reviews of the Antidumping Duty Orders

AGENCY: Enforcement and Compliance, International Trade Administration, Department of Commerce.

DATES: Effective Date: January 6, 2016.

SUMMARY: As a result of these sunset reviews, the Department of Commerce (the Department) finds that revocation of the antidumping duty orders on chlorinated isocyanurates (chlorinated isos) from Spain and the People's Republic of China (PRC) would be likely to lead to continuation or recurrence of dumping at the rates identified in the “Final Results of Review” section of this notice.

FOR FURTHER INFORMATION CONTACT: Jacqueline Arrowsmith or Chien-Min Yang, AD/CVD Operations, Office 7, Enforcement and Compliance, U.S. Department of Commerce, 14th Street and Constitution Avenue NW., Washington, DC 20230; telephone (202) 482-5255 and (202) 482-5484, respectively.

SUPPLEMENTARY INFORMATION:

Background

The Department published the antidumping duty orders on chlorinated isos from Spain and the PRC on June 24, 2005.¹ On September 1, 2015, pursuant to section 751(c) of the Tariff Act of 1930, as amended (the Act), the Department initiated sunset reviews of the antidumping duty orders on chlorinated isos from Spain and the PRC.² On September 11, 2015, the Department received a notice of intent to participate from Clearon Corporation (Clearon), Occidental Chemical Corporation (OxyChem), and Bio-Lab, Inc. (Bio-Lab), (collectively, the petitioners), within the deadline specified in 19 CFR 351.218(d)(1)(i). Petitioners are manufacturers of a domestic like product in the United States and, accordingly, are domestic interested parties pursuant to section 771(9)(C) of the Act.

¹ See Chlorinated Isocyanurates from Spain: Notice of Antidumping Duty Order, 70 FR 36562 (June 24, 2005) (“Spain Order”); see also Notice of Antidumping Duty Order: Chlorinated Isocyanurates from the People's Republic of China, 70 FR 36561 (June 24, 2005) (“PRC Order”).

² See Initiation of Five-Year (“Sunset”) Review, 78 FR 60253 (October 1, 2013).

On October 1, 2015, the Department received an adequate substantive response to the notice of initiation from the domestic interested parties within the 30-day deadline specified in 19 CFR 351.218(d)(3)(i). The Department did not receive any responses from the respondent interested parties, i.e., chlorinated isos producers and exporters from Spain and the PRC. On the basis of the notice of intent to participate and adequate substantive response filed by the petitioners and the inadequate response from any respondent interested party, the Department conducted expedited sunset reviews of these orders pursuant to section 751(c)(3)(B) of the Act and 19 CFR 351.218(e)(1)(ii)(C).

Scope of the Orders

The products covered by the orders are chlorinated isos, which are derivatives of cyanuric acid, described as chlorinated s-triazine triones. There are three primary chemical compositions of chlorinated isos: (1) Trichloroisocyanuric acid (Cl3(NCO)3), (2) sodium dichloroisocyanurate (dehydrate) (NaCl2 (NCO)3(2H2O), and (3) sodium dichloroisocyanurate (anhydrous) (Nacl2(NCO)3). The orders cover all chlorinated isos. A full description of the scope of the order is contained in the Issues and Decision Memorandum for the Expedited Sunset Reviews of the Antidumping Duty Orders on Chlorinated Isocyanurates from Spain and the People's Republic of China.

Analysis of Comments Received

The issues discussed in the Decision Memorandum ³ are the likelihood of continuation or recurrence of dumping, and the magnitude of the margins of dumping likely to prevail if these orders were revoked. Parties can find a complete discussion of all issues raised in this review and the corresponding recommendations in the Decision Memorandum which is on file electronically via Enforcement and Compliance's Antidumping and Countervailing Duty Centralized Electronic Service System (ACCESS). ACCESS is available to registered users at http://access.trade.gov and is available to all parties in the Central Records Unit in Room B8024 of the main Commerce building. In addition, a complete version of the Decision Memorandum can be accessed directly on the Internet at http://trade.gov/enforcement/. The signed Decision Memorandum and electronic versions of the Decision Memorandum are identical in content.

³ See Department Memorandum, “Issues and Decision Memorandum for the Expedited Sunset Reviews of the Antidumping Duty Orders on Chlorinated Isocyanurates from Spain and the People's Republic of China,” dated concurrently with this notice (Decision Memorandum).

Final Results of Review

Pursuant to sections 752(c)(1) and (3) of the Act, we determine that revocation of the antidumping orders of chlorinated isos from Spain and the PRC would be likely to lead to continuation or recurrence of dumping. Further, we determine that the magnitudes of the margins of dumping likely to prevail are as follows:

Spain
Exporter/producer | Margin (percent)
Argonesas Delsa S.A | 24.83
All others | 24.83

PRC
Exporter/producer | Margin (percent)
Hebei Jiheng Chemical Co | 75.78
Nanning Chemical Industry Co., Ltd | 285.63
Changzhou Clean Chemical Co., Ltd | 137.69
Liaocheng Huaao Chemical Industry Co., Ltd | 137.69
Sinochem Hebei Import & Export Corporation | 137.69
Sinochem Shanghai Import & Export Corporation | 137.69
PRC-wide Entity | 285.63

Administrative Protective Order

This notice also serves as the only reminder to parties subject to administrative protective order (“APO”) of their responsibility concerning the return or destruction of proprietary information disclosed under APO in accordance with 19 CFR 351.305. Timely notification of the return of destruction of APO materials or conversion to judicial protective order is hereby requested. Failure to comply with the regulations and terms of an APO is a violation which is subject to sanction.

The Department is issuing and publishing these final results and notice in accordance with sections 751(c), 752(c), and 777(i)(1) of the Act and 19 CFR 351.218.

Dated: December 30, 2015.
Paul Piquado,
Assistant Secretary for Enforcement and Compliance.

[FR Doc. 2015-33290 Filed 1-5-16; 8:45 am]

BILLING CODE 3510-DS-P